OFFICE OF PERSONNEL MANAGEMENT

5 CFR Part 532

RIN 3206-AN10

Prevailing Rate Systems; Redefinition of Certain Appropriated Fund Federal Wage System Wage Areas

AGENCY: U.S. Office of Personnel Management.

ACTION: Final rule.

SUMMARY: The U.S. Office of Personnel Management (OPM) is issuing a final rule to redefine the geographic boundaries of several appropriated fund Federal Wage System (FWS) wage areas for pay-setting purposes. Based on recent reviews of Metropolitan Statistical Area boundaries in a number of wage areas, OPM is redefining the following wage areas: Washington, DC; Hagerstown-Martinsburg-Chambersburg, MD; Minneapolis-St. Paul, MN; Charlotte, NC; Columbia, SC, and Southwestern Wisconsin. In addition, this final rule makes three minor corrections to the Miami, FL; Columbus, GA, and Kansas City, MO, wage areas.

DATES: Effective date: This regulation is effective on March 23, 2015.

Applicability date: This change applies on the first day of the first applicable pay period beginning on or after April 22, 2015.

FOR FURTHER INFORMATION CONTACT: Madeline Gonzalez, by telephone at (202) 606-2838 or by email at pay-leave-policy@opm.gov.

SUPPLEMENTARY INFORMATION: On October 31, 2014, OPM issued a proposed rule (79 FR 64684) to redefine the following counties:

• Culpeper and Rappahannock Counties, VA, from the Hagerstown-Martinsburg-Chambersburg, MD, area of application to the Washington, DC, area of application;

• Fillmore County, MN, from the Southwestern Wisconsin area of application to the Minneapolis-St. Paul, MN, area of application; and

• Chester County, SC, from the Columbia, SC, area of application to the Charlotte, NC, area of application.

The Federal Prevailing Rate Advisory Committee, the national labor-management committee responsible for advising OPM on matters concerning the pay of FWS employees, reviewed and recommended these changes by consensus. The proposed rule had a 30-day comment period, during which OPM received no comments.

In addition, this final rule (1) updates the name of the Columbus Consolidated Government in the Columbus, GA, FWS wage area because Columbus is the official name of the entity resulting from the consolidation of the City of Columbus and Muscogee County in 1971; (2) updates the name of Dade County in the Miami, FL, FWS wage area because the name of Dade County was officially changed to Miami-Dade County in 1997; and (3) deletes the name of the St. Louis, MO, wage area from the list of area of application counties in the Kansas City, MO, wage area because, due to a formatting error, the name of the St. Louis wage area was incorrectly printed as if it was an area of application county in the Kansas City wage area. These corrections do not affect the pay of any FWS employees.

Regulatory Flexibility Act

I certify that these regulations will not have a significant economic impact on a substantial number of small entities because they will affect only Federal agencies and employees.

List of Subjects in 5 CFR Part 532

Administrative practice and procedure, Freedom of information, Government employees, Reporting and recordkeeping requirements, Wages.

U.S. Office of Personnel Management.
Katherine Archuleta,
Director.

Accordingly, OPM amends 5 CFR part 532 as follows:

PART 532—PREVAILING RATE SYSTEMS

1. The authority citation for part 532 continues to read as follows:

Authority: 5 U.S.C. 5343, 5346; § 532.707 also issued under 5 U.S.C. 552.

2. Appendix C to subpart B is amended by revising the wage area listings for the Washington, DC; Miami, FL; Columbus, GA; Hagerstown-Martinsburg-Chambersburg, MD; Minneapolis-St. Paul, MN; Kansas City, MO; Charlotte, NC; Columbia, SC, and Southwestern Wisconsin wage areas to read as follows:

Appendix C to Subpart B of Part 532—Appropriated Fund Wage and Survey Areas

* * * * *

DISTRICT OF COLUMBIA
Washington, DC
Survey Area
District of Columbia:
Washington, DC
Maryland:
Charles
Frederick
Montgomery
Prince George's
Virginia (cities):
Alexandria
Fairfax
Falls Church
Manassas
Manassas Park
Virginia (counties):
Arlington
Fairfax
Loudoun
Prince William
Area of Application. Survey area plus:
Maryland:
Calvert
St. Mary's
Virginia (city):
Fredericksburg
Virginia (counties):
Clarke
Culpeper
Fauquier
King George
Rappahannock
Spotsylvania
Stafford
Warren
West Virginia
Jefferson
* * * * *
FLORIDA
* * * * *
Miami
Survey Area
Florida:
Miami-Dade
Area of Application. Survey area plus:
Florida:
Broward
Collier
Glades
Hendry
Highlands
Martín
Monroe
Okeechobee
Palm Beach
St. Lucie
* * * * *
GEORGIA
* * * * *
Columbus
Survey Area
Alabama:
Autauga
Elmore
Lee
Macon
Montgomery
Russell
Georgia:
Chattahoochee
Columbus
Area of Application. Survey area plus:
Alabama:
Bullock
Butler
Chambers
Coosa
Crenshaw
Dallas
Lowndes
Pike
Tallapoosa
Wilcox
Georgia:
Harris
Marion
Quitman
Schley
Stewart
Talbot
Taylor
Troup
Webster
* * * * *
MARYLAND
* * * * *
Hagerstown-Martinsburg-Chambersburg
Survey Area
Maryland:
Washington
Pennsylvania:
Franklin
West Virginia:
Berkeley
Area of Application. Survey area plus:
Maryland:
Allegany
Garrett
Pennsylvania:
Fulton
Virginia (cities):
Harrisonburg
Winchester
Virginia (counties):
Frederick
Greene
Madison
Page
Rockingham
Shenandoah
West Virginia:
Hampshire
Hardy
Mineral
Morgan
* * * * *
MINNESOTA
* * * * *
Minneapolis-St. Paul
Survey Area
Minnesota:
Anoka
Carver
Chisago
Dakota
Hennepin
Ramsey
Scott
Washington
Wright
Wisconsin:
St. Croix
Area of Application. Survey area plus:
Minnesota:
Benton
Big Stone
Blue Earth
Brown
Chippewa
Cottonwood
Dodge
Douglas
Faribault
Fillmore
Freeborn
Goodhue
Grant
Isanti
Kanabec
Kandiyohi
Lac Qui Parle
Le Sueur
McLeod
Martin
Meeker
Mille Lacs
Morrison
Mower
Nicollet
Olmsted
Pope
Redwood
Renville
Rice
Sherburne
Sibley
Stearns
Steele
Stevens
Swift
Todd
Traverse
Wabasha
Wadena
Waseca
Watonwan
Yellow Medicine
Wisconsin:
Pierce
Polk
* * * * *
MISSOURI
Kansas City
Survey Area
Kansas:
Johnson
Leavenworth
Wyandotte
Missouri:
Cass
Clay
Jackson
Platte
Ray
Area of Application. Survey area plus:
Kansas:
Allen
Anderson
Atchison
Bourbon
Doniphan
Douglas
Franklin
Linn
Miami
Missouri:
Adair
Andrew
Atchison
Bates
Buchanan
Caldwell
Carroll
Chariton
Clinton
Cooper
Daviess
De Kalb
Gentry
Grundy
Harrison
Henry
Holt
Howard
Johnson
Lafayette
Linn
Livingston
Macon
Mercer
Nodaway
Pettis
Putnam
Saline
Schuyler
Sullivan
Worth
* * * * *
NORTH CAROLINA
* * * * *
Charlotte
Survey Area
North Carolina:
Cabarrus
Gaston
Mecklenburg
Rowan
Union
Area of Application. Survey area plus:
North Carolina:
Alexander
Anson
Catawba
Cleveland
Iredell
Lincoln
Stanly
Wilkes
South Carolina:
Chester
Chesterfield
Lancaster
York
* * * * *
SOUTH CAROLINA
* * * * *
Columbia
Survey Area
South Carolina:
Darlington
Florence
Kershaw
Lee
Lexington
Richland
Sumter
Area of Application. Survey area plus:
South Carolina:
Abbeville
Anderson
Calhoun
Cherokee
Clarendon
Fairfield
Greenville
Greenwood
Laurens
Newberry
Oconee
Orangeburg
Pickens
Saluda
Spartanburg
Union
* * * * *
WISCONSIN
* * * * *
Southwestern Wisconsin
Survey Area
Wisconsin:
Chippewa
Eau Claire
La Crosse
Monroe
Trempealeau
Area of Application. Survey area plus:
Minnesota:
Houston
Winona
Wisconsin:
Barron
Buffalo
Clark
Crawford
Dunn
Florence
Forest
Jackson
Juneau
Langlade
Lincoln
Marathon
Marinette
Menominee
Oneida
Pepin
Portage
Price
Richland
Rusk
Shawano
Taylor
Vernon
Vilas
Waupaca
Wood
* * * * *

[FR Doc. 2015-06410 Filed 3-20-15; 8:45 am]

BILLING CODE 6325-39-P